DEPARTMENT OF HOMELAND SECURITY

Coast Guard

33 CFR Part 100

[Docket No. USCG-2023-0348]

Special Local Regulation; 39th Annual Sarasota P1 Powerboat Grand Prix; Gulf of Mexico

AGENCY: Coast Guard, Department of Homeland Security (DHS).

ACTION: Notification of enforcement of regulation.

SUMMARY: The Coast Guard will enforce a special local regulation on the waters of the Gulf of Mexico, in the vicinity of Lido Beach, Florida, during the Sarasota Powerboat Grand Prix. Our regulation for marine events within the Captain of the Port St. Petersburg identifies the regulated area for this event in Gulf of Mexico, in the vicinity of Lido Beach, Florida. During the enforcement period, no person or vessel may enter, transit through, anchor in, or remain within the designated area unless authorized by the Captain of the Port St. Petersburg or a designated representative.

DATES: The regulations in 33 CFR 100.703, Table 1 to § 100.703, Item 4 will be enforced daily from 8 a.m. until 5 p.m., on July 1, 2023, through July 2, 2023.

FOR FURTHER INFORMATION CONTACT: If you have questions about this notification of enforcement, call or email Chief Marine Science Technician Ryan D. Shaak, Sector St. Petersburg Prevention Department, Coast Guard; telephone (813) 228-2191, email Ryan.D.Shaak@uscg.mil.

SUPPLEMENTARY INFORMATION: The Coast Guard will enforce the special local regulations in 33 CFR 100.703, Table 1 to § 100.703, Item No. 4, for the Sarasota Powerboat Grand Prix/Powerboat P-1 USA, LLC regulated area from July 1, 2023, through July 2, 2023. This action is being taken to provide for the safety of life on navigable waterways during this event. Our regulation for recurring marine events, Sector St. Petersburg, § 100.703, Table 1 to § 100.703, Item No. 4, specifies the location of the regulated area for the Sarasota Powerboat Grand Prix/Powerboat P-1 USA, LLC which encompasses portions of the Gulf of Mexico near Lido beach. During the enforcement periods, as reflected in § 100.703(c), if you are the operator of a vessel in the regulated area you must comply with directions from the Patrol Commander or any designated representative.

In addition to this notification of enforcement in the Federal Register, the Coast Guard plans to provide notification of this enforcement period via the Local Notice to Mariners, marine information broadcasts, or both.

Dated: June 12, 2023.
Michael P. Kahle,
Captain, U.S. Coast Guard, Captain of the Port St. Petersburg.

[FR Doc. 2023-13008 Filed 6-16-23; 8:45 am]

BILLING CODE 9110-04-P